DEPARTMENT OF DEFENSE

Office of the Secretary

[Docket ID DoD-2013-OS-0029]

Submission for OMB Review; Comment Request

AGENCY: Department of Defense (DoD), DoD Chief Information Officer (DoD CIO).

ACTION: Notice.

The Department of Defense has submitted to OMB for clearance, the following proposal for collection of information under the provisions of the Paperwork Reduction Act (44 U.S.C. Chapter 35).

DATES: Consideration will be given to all comments received by March 27, 2013.

Title, Associated Form and OMB Number: Information Assurance Scholarship Program; OMB Control Number 0704-0486.

Type of Request: Extension.

Number of Respondents: 337.

Responses per Respondent: 1.

Annual Responses: 337.

Average Burden per Response: 5.852 hours.

Annual Burden Hours: 1,972 hours.

Needs and Uses: The National Security Agency (NSA) is the Executive Administrator of the DoD Information Assurance Scholarship Program (IASP), serving on behalf of DoD Chief Information Officer. Those who wish to participate in the DoD IASP Recruitment program must complete and submit an application package through their college or university to NSA. Centers of Academic Excellence in Information Assurance Education and Research (CAEs) interested in applying for capacity-building grants must complete and submit a written proposal, and all colleges and universities subsequently receiving grants must provide documentation on how the grant funding was utilized and the resulting accomplishments. Without this written documentation detailing scholarship applicants' credentials, grant proposals, and grant execution accomplishments, the DoD has no means of judging the quality of applicants to the program or collecting information regarding program performance.

Affected Public: “Individuals or households,” specifically college students at institutions designated as CAEs who are interested in, and qualify to apply for a scholarship; CAEs interested in submitting proposals for capacity-building grants, and faculty advisors (Principal Investigators).

Frequency: Annually.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD Information Management Division, 4800 Mark Center Drive, East Tower, Suite 02G09, Alexandria, VA 22350-3100.

Dated: February 20, 2013.
Aaron Siegel,
Alternate OSD Federal Register Liaison Officer, Department of Defense.

[FR Doc. 2013-04199 Filed 2-22-13; 8:45 am]

BILLING CODE 5001-06-P